NUCLEAR REGULATORY COMMISSION

[NRC-2009-0171]

Final Regulatory Guide: Issuance, Availability

AGENCY: Nuclear Regulatory Commission.

ACTION: Notice of Issuance and Availability of Regulatory Guide 1.211 and Withdrawal of Regulatory Guide 1.131.

FOR FURTHER INFORMATION CONTACT: Mark Orr, Regulatory Guide Development Branch, Division of Engineering, Office of Nuclear Regulatory Research, U.S. Nuclear Regulatory Commission, Washington, DC 20555-0001, telephone (301) 251-7495 or e-mail to Mark.Orr@nrc.gov.

SUPPLEMENTARY INFORMATION:

I. Introduction

The U.S. Nuclear Regulatory Commission (NRC) is issuing a new regulatory guide and withdrawing an outdated regulatory guide in the agency's “Regulatory Guide” series. This series was developed to describe and make available to the public information such as methods that are acceptable to the NRC staff for implementing specific parts of the agency's regulations, techniques that the staff uses in evaluating specific problems or postulated accidents, and data that the staff needs in its review of applications for permits and licenses.

Regulatory Guide 1.131, “Qualification Tests of Electric Cables, Field Splices, and Connections for Light-Water-Cooled Nuclear Power Plants,” was issued for comment in August 1977 and never finalized. Regulatory Guide 1.131 is being withdrawn because its guidance has been replaced by the guidance in Regulatory Guide 1.211.

Regulatory Guide 1.211, “Qualification of Safety-Related Cables and Field Splices for Nuclear Power Plants,” was issued with a temporary identification as Draft Regulatory Guide 1132. This guide describes a method that the staff of the NRC considers acceptable for use in complying with the Commission's regulations for the qualification of safety-related cables and field splices for nuclear power plants.

The regulations established by the NRC in Title 10, Part 50, “Domestic Licensing of Production and Utilization Facilities,” of the Code of Federal Regulations (10 CFR Part 50) require that structures, systems, and components that are important to safety in a nuclear power plant must be designed to accommodate the effects of environmental conditions (i.e., remain functional under postulated design-basis events (DBEs)). Toward that end, General Design Criterion (GDC) 1, “Quality Standards and Records,” GDC 2, “Design Bases for Protection Against Natural Phenomena,” GDC 4, “Environmental and Dynamic Effects Design Bases,” and GDC 23, “Protection System Failure Modes,” of Appendix A, “General Design Criteria for Nuclear Power Plants,” to 10 CFR Part 50 contain the general requirements. Augmenting those general requirements, the specific requirements pertaining to the qualification of certain electrical equipment important to safety appear in 10 CFR 50.49, “Environmental Qualification of Electric Equipment Important to Safety for Nuclear Power Plants.” In addition, Criterion III, “Design Control,” of Appendix B, “Quality Assurance Criteria for Nuclear Power Plants,” to 10 CFR Part 50 requires that, where a test program is used to verify the adequacy of a specific design feature, the test program must include suitable qualification testing of a prototype unit under the most severe DBE.

II. Further Information

In June 2007, DG-1132 was published with a public comment period of 60 days from the issuance of the guide. The public comment period closed on September 14, 2007. The staff's responses to the public comments are located in the NRC's Agencywide Documents Access and Management System (ADAMS), Accession Number ML081690227. Electronic copies of Regulatory Guide 1.211 are available through the NRC's public Web site under “Regulatory Guides” at http://www.nrc.gov/reading-rm/doc-collections/.

In addition, regulatory guides are available for inspection at the NRC's Public Document Room (PDR), which is located at Room O-1F21, One White Flint North, 11555 Rockville Pike, Rockville, Maryland 20852-2738. The PDR's mailing address is USNRC PDR, Washington, DC 20555-0001. The PDR can also be reached by telephone at (301) 415-4737 or (800) 397-4209, by fax at (301) 415-3548, and by e-mail to pdr.resource@nrc.gov.

Regulatory guides are not copyrighted, and NRC approval is not required to reproduce them.

Dated at Rockville, Maryland, this 13th day of April 2009.
For the Nuclear Regulatory Commission.
Andrea D. Valentin,
Chief, Regulatory Guide Development Branch, Division of Engineering, Office of Nuclear Regulatory Research.

[FR Doc. E9-9034 Filed 4-17-09; 8:45 am]

BILLING CODE 7590-01-P